DEPARTMENT OF JUSTICE

Notice of Lodging of Proposed Consent Decree Under the Clean Air Act

On May 21, 2013, the Department of Justice lodged a proposed consent decree with the United States District Court for the District of Kansas in the lawsuit entitled United States v. Coffeyville Resources Refining & Marketing L.L.C., Civil Action No. 11-CV-1291-JTM-JPO.

The United States of America, on behalf of the United States Environmental Protection Agency (EPA) filed a Complaint in this action asserting the claims against Defendant Coffeyville Resources Refining & Marketing, LLC (“CRRM”) for penalties and injunctive relief under Section 112(r)(7) of the Clean Air Act (“CAA”), 42 U.S.C. 7412(r)(7). Specifically, the Complaint asserts that CRRM violated various Risk Management Program (RMP) regulations promulgated under Section 112(r) of the CAA at its petroleum refinery located in Coffeyville, Kansas. The RMP regulations require stationary sources using threshold amounts of regulated substances to undertake specified steps to prevent accidental releases and minimize the consequences of releases that do occur.

Under the proposed Consent Decree, CRRM will pay a penalty of $300,000 and correct all of the RMP violations alleged in the Complaint. In addition, it will retain independent third party experts to conduct three different and extensive audits of RMP components.

The publication of this notice opens a period for public comment on the Consent Decree. Comments should be addressed to the Assistant Attorney General, Environment and Natural Resources Division, and should refer to United States v. Coffeyville Resources Refining & Marketing L.L.C., D.J. Ref. No. 90-5-2-1-07459/2. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $9.00 (25 cents per page reproduction cost) payable to the United States Treasury.

Robert E. Maher, Jr.,
Assistant Section Chief, Environmental Enforcement Section, Environment and Natural Resources Division.

[FR Doc. 2013-12639 Filed 5-28-13; 8:45 am]

BILLING CODE 4410-15-P